DEPARTMENT OF TRANSPORTATION

Federal Highway Administration

Environmental Impact Statement: Cities of Chesapeake and Virginia Beach, VA

AGENCY: Federal Highway Administration (FHWA), DOT.

ACTION: Notice of intent.

SUMMARY: The Federal Highway Administration (FHWA) is issuing this notice to advise the public of its intent to prepare an Environmental Impact Statement in cooperation with the Virginia Department of Transportation (VDOT) for the proposed Southeastern Parkway and Greenbelt.

FOR FURTHER INFORMATION CONTACT: Kenneth R. Myers, Planning & Environmental Program Manager, Federal Highway Administration, PO Box 10249, Richmond, Virginia 23240-0249. Telephone: (804) 775-3353.

SUPPLEMENTARY INFORMATION: The Federal Highway Administration (FHWA), in cooperation with the Virginia Department of Transportation (VDOT), will prepare an Environmental Impact Statement (EIS) for the Southeastern Parkway and Greenbelt. The study area begins in central Chesapeake and extends to north central Virginia Beach. The study window is roughly defined by the Battlefield Boulevard/Great Bridge Bypass in Chesapeake to the west; the Albemarle and Chesapeake Canal in Chesapeake and North Landing Road in Virginia Beach to the south; Volvo Parkway in Chesapeake and Lynnhaven Parkway and Laskin Road in Virginia Beach to the north; and Bird Neck Road in Virginia Beach to the east.

The EIS will examine a range of alternatives consisting of a no-build alternative as well as transportation system management strategies, mass transit, improvements to existing facilities, and new alignment facilities. Initial studies for this project began in 1987, with a Draft EIS issued in September 1989 followed by a Supplemental Draft EIS in September 1994. Subsequently, VDOT recommended, and Virginia's Commonwealth Transportation Board endorsed, a preferred alternative. However, work was suspended prior to the completion of a Final EIS. Because of the lapse of time since the circulation of the previous drafts, the study is being reinitiated with a new Draft EIS. Previous studies will be used to the extent practical and will be updated to reflect changes in the project area. The final selection of an alternative will not be made until the alternatives' impacts and comments on the draft EIS and from the public hearing have been fully evaluated.

The scoping process is currently underway. Scoping letters describing the proposed study and soliciting input are being sent to the appropriate Federal, State and local agencies who have expressed or are known to have an interest or legal role in this proposal. A Citizen's Information Meeting will be held to enable organizations, citizens, and interest groups to provide input into the development of the EIS and identify issues that should be addressed. No formal scoping meeting is planned at this time.

A Public Hearing will be held upon completion of the Draft EIS. Notices of the Public Hearing will be given through various forums, providing the time and place of the meeting along with other relevant information. The Draft EIS will be available for public and agency review and comment prior to the Public Hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: December 17, 2003.
Kenneth R. Myers,
Planning & Environmental Program Manager.

[FR Doc. 03-31639 Filed 12-23-03; 8:45 am]

BILLING CODE 4910-22-P